DEPARTMENT OF HEALTH AND HUMAN SERVICES

Centers for Medicare & Medicaid Services

42 CFR Parts 412, 413, 431, 482, 485, 495, and 512

[CMS-1808-CN]

RIN 0938-AV34

Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes; Correction

AGENCY: Centers for Medicare & Medicaid Services (CMS), Department of Health and Human Services (HHS).

ACTION: Proposed rule; correction

SUMMARY: This document corrects technical and typographical errors in the proposed rule that appeared in the May 2, 2024 Federal Register titled “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes.”

DATES: June 4, 2024.

FOR FURTHER INFORMATION CONTACT:

Donald Thompson and Michele Hudson, DAC@cms.hhs.gov, (410) 786-4487, Direct Graduate Medical Education Issues.

Lily Yuan, NewTech@cms.hhs.gov, New Technology Add-On Payments Issues.

Lang Le, lang.le@cms.hhs.gov, Hospital Readmissions Reduction Program and Advancing Patient Safety and Outcomes Across the Hospital Quality Programs.

Julia Venanzi, julia.venanzi@cms.hhs.gov, Hospital Inpatient Quality Reporting Program, Hospital Value-Based Purchasing Program and Hospital Consumer Assessment of Healthcare Providers and Systems (HCAHPS) Survey Measure.

Lorraine Wickiser, Lorraine.wickiser@cms.hhs.gov, Long-term Care Hospital Quality Reporting Program.

Jessica Warren, jessica.warren@cms.hhs.gov, and Elizabeth Holland, elizabeth.holland@cms.hhs.gov, Medicare Promoting Interoperability Program.

CMMI_TEAM@cms.hhs.gov, Transforming Episode Accountability Model (TEAM).

SUPPLEMENTARY INFORMATION:

I. Background

In FR Doc. 2024-07567 of May 2, 2024 (89 FR 35934), there were a number of typographical and technical errors that are identified and corrected in this correcting document.

II. Summary of Errors

A. Summary of Errors in the Preamble

On pages 36034, 36038, 36041, 36048, 36055, 36062, 36067, 36073, 36079, 36084, 36090, 36095, 36102, 36110, 36112, 36114, 36118, 36125, 36131, and 36135, in the discussion of the new technology add-on payment, we are correcting inadvertent typographical and technical errors made in the tables identifying the files that were used by applicants in standardizing charges for their cost analyses.

On page 36225, within our discussion of technical fixes to the direct graduate medical education (DGME) regulations, removal of obsolete regulations under § 413.79(d)(6), we are correcting a typographical error.

On page 36242, in the discussion of the Hospital Value-Based Purchasing Program, we are correcting a typographical error in the preamble.

On pages 36286, 36287, and 36292, in our discussion of the proposed adoption of the Patient Safety Structural Measure, we are correcting several typographical and technical errors.

On pages 36294 and 36304, in the discussion of the updates to the Hospital Consumer Assessment of Healthcare Providers and Systems (HCAHPS) Survey measure, we are correcting typographical and technical errors in the preamble.

On page 36305, in the Advancing Patient Safety and Outcomes Across the Hospital Quality Programs request for comment, we are correcting a technical error.

On pages 36314, 36317, 36320, 36323, 36325, 36326, 36329, 36330, 36332 36333, and 36335, in our discussion of the Hospital Inpatient Quality Reporting Program, we are correcting several typographical and technical errors.

On pages 36346, 36350, 36351, and 36352, in the discussion of the Long-term Care Hospital Quality Reporting Program (LTCH QRP), we are correcting several technical and typographical errors.

On pages 36373, 36374, 36375, 36376, 36378, and 36380, in our discussion of the Medicare Promoting Interoperability Program, we are correcting several typographical and technical errors.

On pages 36413 through 36415, 36449, and 36451, in our discussion of the Transforming Episode Accountability Model (TEAM), we are correcting inadvertent errors in the references and hyperlinks for several footnotes.

On page 36414, in our TEAM overview, we are clarifying that the discussion of episode counts is specific to Bundle Payments for Care Improvement Initiative (BPCI) Advanced episodes.

On pages 36415, 36416, and 36418, in our discussion of TEAM, we are correcting the inadvertent omission of cross-references to proposed changes to spinal fusion MS-DRGs for FY 2025 which, if finalized, would affect the Medicare Severity Diagnosis Related Groups (MS-DRGs) proposed for TEAM.

B. Summary of Errors in the Appendices

On page 36611, in our discussion of the impact analysis of Table III: Provider Deciles by Beneficiary Characteristics, we made an inadvertent error in a hyperlink for a footnote.

On page 36621, in our discussion of the Effects under the Hospital Readmissions Reduction Program, we are correcting a typographical error.

On page 36642 in our discussion of the Effects of the LTCH QRP, we are correcting a typographical error.

III. Correction of Errors

In FR Doc. 2024-07567 of May 2, 2024 (89 FR 35934), we are making the following corrections:

A. Corrections of Errors in the Preamble

1. On page 36034, top of the page, in the table titled “CASGEVY™ COST ANALYSIS ¹⁷”, the entry for Standardized charges is corrected to read as follows:

CASGEVY™ COST ANALYSIS ¹⁷
Standardized charges | The applicant used the standardization formula provided in Appendix A of the application. The applicant used all relevant values reported in the Impact File posted with the FY 2024 IPPS/LTCH PPS final rule.

2. On page 36038, bottom of the page, in the table titled “CASGEVY™ COST ANALYSIS ²¹”, the entry for Standardized charges is corrected to read as follows:

CASGEVY™ COST ANALYSIS ²¹
Standardized charges | The applicant used the standardization formula provided in Appendix A of the application. The applicant used all relevant values reported in the Impact File posted with the FY 2024 IPPS/LTCH PPS final rule.

3. On page 36041, middle of the page, in the table titled “DURAGRAFT® COST ANALYSIS ²⁵”, the table title and entry for Standardized charges are corrected to read as follows:

DuraGraft® COST ANALYSIS ²⁵
Standardized charges | The applicant used the standardization formula provided in Appendix A of the application. The applicant used all relevant values reported in the Impact File posted with the FY 2022 IPPS/LTCH PPS final rule and correction notice.

4. On page 36048, top of the page, in the table titled “ELREXFIO™ COST ANALYSIS”, the entry for Standardized charges is corrected to read as follows:

ELREXFIO™ COST ANALYSIS
Standardized charges | The applicant used the standardization formula provided in Appendix A of the application. The applicant used all relevant values reported in the Standardizing File posted with the FY 2024 IPPS/LTCH PPS final rule and in the Impact File posted with the FY 2022 IPPS/LTCH PPS final rule.

5. On page 36055, top of the page, in the table titled “FLOPATCH FP120 COST ANALYSIS”, the entry for Standardized charges is corrected to read as follows:

FLOPATCH FP120 COST ANALYSIS
Standardized charges | The applicant did not apply standardization to the charge per case. The applicant used values from the “average charge” from the FY2022 MedPAR file.

6. On page 36062, top of the page, in the table titled “HEPZATO™ KIT COST ANALYSIS ⁵⁴”, the entry for Standardized charges is corrected to read as follows:

HEPZATO™ KIT COST ANALYSIS ⁵⁴
Standardized charges | The applicant used the standardization formula provided in Appendix A of the application. The applicant used all relevant values reported in the Standardizing and Impact Files posted with the FY 2022 IPPS/LTCH PPS final rule correction notice.

7. On page 36067, bottom of the page, in the table titled “LANTIDRA™ COST ANALYSIS”, the entry for Standardized charges is corrected to read as follows:

LANTIDRA™ COST ANALYSIS
Standardized charges | The applicant used the standardization formula provided in Appendix A of the application. The applicant used all relevant values reported in the Impact File posted with the FY 2022 IPPS/LTCH PPS final rule and correction notice.

8. On page 36073, in the table titled “AMTAGVI™ COST ANALYSIS ⁷⁵”, the entry for Standardized charges is corrected to read as follows:

AMTAGVI™ COST ANALYSIS ⁷⁵
Standardized charges | The applicant used the standardization formula provided in Appendix A of the application. The applicant used all relevant values reported in the Impact File posted with the FY 2022 IPPS/LTCH PPS final rule and correction notice.

9. On page 36079, top of the page, in the table titled “LYFGENIA™ COST ANALYSIS ⁸³”, the entry for Standardized charges is corrected to read as follows:

LYFGENIA™ COST ANALYSIS ⁸³
Standardized charges | The applicant used the standardization formula provided in Appendix A of the application. The applicant used all relevant values reported in the Impact File posted with the FY 2022 IPPS/LTCH PPS final rule and correction notice.

10. On page 36084, middle of the page, in the table titled “QUICKTOME SOFTWARE SUITE COST ANALYSIS”, the entry for Standardized charges is corrected to read as follows:

QUICKTOME SOFTWARE SUITE COST ANALYSIS
Standardized charges | The applicant used the standardization formula provided in Appendix A of the application. The applicant used all relevant values reported in the Impact File posted with the FY 2020 IPPS/LTCH PPS final rule and correction notice.

11. On page 36090, top of the page, in the table titled “TALVEY™ COST ANALYSIS”, the entry for Standardized charges is corrected to read as follows:

TALVEY™ COST ANALYSIS
Standardized charges | The applicant used the standardization formula provided in Appendix A of the application. The applicant used all relevant values reported in the Impact File posted with the FY 2024 IPPS/LTCH PPS final rule.

12. On page 36095, in the table titled “ODRONEXTAMAB COST ANALYSIS”, the entry for Standardized charges is corrected to read as follows:

ODRONEXTAMAB COST ANALYSIS
Standardized charges | The applicant used the standardization formula provided in Appendix A of the application. The applicant used all relevant values reported in the Standardizing File posted with the FY 2022 IPPS/LTCH PPS final rule.

13. On page 36102, in the table titled “ODRONEXTAMAB COST ANALYSIS ¹¹²”, the entry for Standardized charges is corrected to read as follows:

ODRONEXTAMAB COST ANALYSIS ¹¹²
Standardized charges | The applicant used the standardization formula provided in Appendix A of the application. The applicant used all relevant values reported in the Standardizing File posted with the FY 2022 IPPS/LTCH PPS final rule.

14. On page 36110, middle of the page, in the table titled “ASTar® System COST ANALYSIS ¹¹⁹”, the entry for Standardized charges is corrected to read as follows:

ASTar® System COST ANALYSIS ¹¹⁹
Standardized charges | The applicant used the standardization formula provided in Appendix A of the application. The applicant used all relevant values reported in the Standardizing and Impact Files posted with the FY 2022 IPPS/LTCH PPS final rule correction notice.

15. On page 36112, top of the page, in the table titled “CEFEPIME-TANIBORBACTAM COST ANALYSIS ¹²⁰”, the entry for Standardized charges is corrected to read as follows:

CEFEPIME-TANIBORBACTAM COST ANALYSIS ¹²⁰
Standardized charges | The applicant used the standardization formula provided in Appendix A of the application. The applicant used all relevant values reported in the Standardizing File posted with the FY 2022 IPPS/LTCH PPS final rule.

16. On page 36114, top of the page, in the table titled “EVOQUE™ TRICUSPID VALVE REPLACEMENT SYSTEM COST ANALYSIS”, the entry for Standardized charges is corrected to read as follows:

EVOQUE™ TRICUSPID VALVE REPLACEMENT SYSTEM COST ANALYSIS
Standardized charges | The applicant used the standardization formula provided in Appendix A of the application. The applicant used all relevant values reported with the FY 2022 IPPS/LTCH PPS final rule correction notice.

17. On page 36118, top of the page, in the table titled “LimFlow™ System COST ANALYSIS ¹²²”, the entry for Standardized charges is corrected to read as follows:

LimFlow™ System COST ANALYSIS ¹²²
Standardized charges | The applicant used the standardization formula provided in Appendix A of the application. The applicant used all relevant values reported in the Impact File posted with the FY 2024 IPPS/LTCH PPS final rule.

18. On page 36125, top of the page, in the table titled “RESTOR3D TIDAL™ FUSION CAGE COST ANALYSIS ¹²⁶”, the table title and entry for Standardized charges is corrected to read as follows:

restor3d TIDAL™ FUSION CAGE COST ANALYSIS ¹²⁶
Standardized charges | The applicant used the standardization formula provided in Appendix A of the application. The applicant used all relevant values reported in the Standardizing and Impact Files posted with the FY 2024 IPPS/LTCH PPS final rule and correction notice.

19. On page 36131, bottom of the page, in the table titled “TRICLIP™ G4 COST ANALYSIS”, the table title and the entry for Standardized charges is corrected to read as follows:

TriClip™ G4 COST ANALYSIS
Standardized charges | The applicant used the standardization formula provided in Appendix A of the application. The applicant used all relevant values reported in the Impact File posted with the FY 2022 IPPS/LTCH PPS final rule correcting amendment.

20. On page 36135, top of the page, in the table titled “ZEVTERA™ COST ANALYSIS ¹³²”, the entry for Standardized Charges is corrected to read as follows:

ZEVTERATM COST ANALYSIS ¹³²
Standardized charges | The applicant used the standardization formula provided in Appendix A of the application. The applicant used all relevant values reported in the Impact File posted with the FY 2024 IPPS/LTCH PPS final rule.

21. On page 36225, second column, second full paragraph, line 15, the citation “§ 413.79(6)(i)” is corrected to read “§ 413.79(d)(6)(i)”.

22. On page 36242, top of the page, in the table titled “TABLE V.L.-05: BASELINE AND PERFORMANCE PERIODS FOR THE FY 2028 PROGRAM YEAR”, first table note, line 1, the phrase “we are proposing to we are proposing that” is corrected to read “we are proposing that”.

23. On page 36286:

a. First column, first full paragraph:

(1) Line 12 the reference, “section IX.C.5.b” is corrected to read “section IX.C.5.d.”.

(2) Line 16, the reference, “section IX.C.5.d” is corrected to read “section IX.C.5.b.”.

b. Second column, first full paragraph, line 7, the parenthetical reference, “(see Table VIII.B.1-01” is corrected to read “(see Table IX.B.1-01”.

c. Third column, first full paragraph, lines 37 through 39, the phrase “Measure Review and Measure Set Review, including details” is corrected to read “Measure Review and Measure Set Review, available at: https://p4qm.org/PRMR, including details”.

24. On page 36287, first column, first paragraph, line 25, the phrase “Guidebook, including details” is corrected to read “Guidebook, available at: https://p4qm.org/EM, including details”.

25. On page 36292, lower two-thirds of the page:

a. First column, first footnote paragraph (footnote 227), lines 3 through 6, “available at both: https://qualitynet.com.gov/inpatient/iqr/proposedmeasures and https://qualitynet.com.gov/pch/pchqr/proposedmeasures.” is corrected to read “available at both: https://qualitynet.cms.gov/inpatient/iqr/proposedmeasures and https://qualitynet.cms.gov/pch/pchqr/proposedmeasures.”.

b. Second column, second paragraph, lines 6 through 8, the hyperlink “https://qualitynet.com.gov/inpatient/iqr/proposedmeasures.” is corrected to read “https://qualitynet.cms.gov/inpatient/iqr/proposedmeasures.”.

26. On page 36294, second column, seventh bulleted paragraph, lines 1 and 2, the phrase “During this hospital stay, did doctors,” is corrected to read “Did doctors,”.

27. On page 36304, top third of the page, in the table titled “TABLE IX.B.2-03 TIMELINES FOR CURRENT AND NEWLY PROPOSED HCAHPS SURVEY DIMENSIONS FOR THE HOSPITAL VBP PROGRAM”, the fourth table note, lines 1 and 2, the phrase “we are proposing to remove the “Care Transition” dimension from scoring in the Hospital VBP Program beginning with the FY 2027 program year.” is corrected to read “we are proposing to not score the “Care Transition” dimension for the FY 2027 through FY 2029 program years, and to remove this dimension from the Hospital VBP Program beginning with the FY 2030 program year.”.

28. On page 36305, second column, first partial paragraph, line 12, the phrase “was $448.94” is corrected to read “was $448.94 per stay”.

29. On page 36314, first column:

a. Second footnote paragraph (footnote 315), line 1, “CDC. (2023).” is corrected to read “CDC. (2024).”.

b. Fourth footnote paragraph (footnote 317), line 1, “CDC. (2022).” is corrected to read “CDC. (2024).”.

30. On page 36317, first column:

a. First footnote paragraph (footnote 349), line 1, the phrase “CDC. (2023).” is corrected to read “CDC. (2024).”.

b. Third footnote paragraph (footnote 351), line 1, the phrase “CDC. (2022).” is corrected to read “CDC. (2024).”.

31. On page 36320, third column, first full paragraph, lines 8 and 9, the parenthetical phrase “ASA categories 3 through 5)” is corrected to read “ASA category 3, ASA category 4 or 5)”.

32. On page 36323, first column, first paragraph, lines 2 and 3, the hyperlink “https://qualitynet.cms.gov/inpatient/measures/psi” is corrected to read “https://qualitynet.cms.gov/inpatient/iqr/proposedmeasures#tab2”.

33. On page 36325, first column, first paragraph, lines 14 and 15, the citation “(86 FR 45391 through 45392)” is corrected to read “(86 FR 45390 and 45391)”.

34. On page 36326, middle of the page, in the table titled “TABLE IX.C.3. PROPOSED FINAL PERFORMANCE PERIOD & PAYMENT DETERMINATION FOR AMI PAYMENT, HF PAYMENT, PN PAYMENT, AND/TKA PAYMENT MEASURES”, the table title and table are corrected to read as follows:

TABLE IX.C.3.: PROPOSED FINAL PERFORMANCE PERIOD AND PAYMENT DETERMINATION FOR AMI PAYMENT, HF PAYMENT, PN PAYMENT, AND THA/TKA PAYMENT MEASURES
Measure | Final Performance Period | Payment Determination
AMI Payment | July 1, 2020-June 30, 2023 | FY 2025.
HF Payment | July 1, 2020-June 30, 2023 | FY 2025.
PN Payment | July 1, 2020-June 30, 2023 | FY 2025.
THA/TKA Payment | July 1, 2020-March 31, 2023 | FY 2025.

35. On page 36329, bottom half of the page, second column, second full paragraph, line 16, the section reference “XI.C.9.c.” is corrected to read “IX.C.9.c”.

36. On page 36330, in the table titled “TABLE IX.C.5. MEASURES FOR THE FY 2026 PAYMENT DETERMINATION”, the second table note, line 3, the parenthetical phrase “(CBE #2879),” is corrected to read “(CBE #2879e),”.

37. On page 36332, in the table titled “TABLE IX.C.6. MEASURES FOR THE FY 2027 PAYMENT DETERMINATION”, first column (Short Name), under the entries for Electronic Clinical Quality Measures (eCQMs) (row 5), the short name “HH-OREA” is corrected to read “HH-ORAE”.

38. On page 36333, in the table titled “TABLE IX.C.7. MEASURES FOR THE FY 2028 PAYMENT DETERMINATION”, first column (Short Name), under the entries for Electronic Clinical Quality Measures (eCQMs) (row 37), the short name “HH-OREA” is corrected to read “HH-ORAE”.

39. On page 36335, in the table titled “TABLE IX.C.8. MEASURES FOR THE FY 2029 PAYMENT DETERMINATION AND FOR SUBSEQUENT YEARS”, first column (Short Name), under the entries for Electronic Clinical Quality Measures (eCQMs) (row 37), the short name “HH-OREA” is corrected to read “HH-ORAE”.

40. On page 36346, third column, first full paragraph:

a. Line 6, the reference “section IX.4.c.(1)” is corrected to read “section IX.E.4.c.(1).”.

b. Line 8, the reference “section IX.4.c.(2)” is corrected to read “section IX.E.4.c.(2).”.

c. Line 10, the reference “section IX.4.c.(3)” is corrected to read “section IX.E.4.c.(3).”.

41. On page 36350, first column, second footnote paragraph (footnote 525), lines 4 through 7, the sentence “LTCHs can monitor the Partnership for Quality Measurement website at https://mmshub.cms.gov/get-involved/technical-expert-panel/updates for updates.” is corrected to read “For updates, LTCHs can monitor the Partnership for Quality Measurement website at https://mmshub.cms.gov/get-involved/technical-expert-panel/updates.”.

42. On page 36351, third column:

a. First full paragraph, line 1, the reference “section X.4.” is corrected to read “section IX.E.4.”.

b. Last full paragraph, line 1, the reference “Section X.E,4.e.” is corrected to read “section IX.E.4.e.”.

43. On page 36352, first column, second full paragraph:

a. Line 8, the reference “section X.4.c.(1)” is corrected to read “section IX.E.4.c.(1).”.

b. Line 10, the reference “section X.4.c.(2)” is corrected to read “section IX.E.4.c.(2).”.

c. Line 11, the reference “section X.4.c.(3)” is corrected to read “section IX.E.4.c.(3).”.

d. Line 19, the reference “section IX.4.e” is corrected to read “section IX.E.4.e.(3).”.

44. On page 36373, at the top of the page, in the table titled “TABLE IX.F.-05: PREVIOUSLY FINALIZED ECQMS FOR ELIGIBLE HOSPITALS AND CAHS FOR THE REPORTING PERIOD”, the title is corrected to read “TABLE IX.F.-05: PREVIOUSLY FINALIZED ECQMs FOR ELIGIBLE HOSPITALS AND CAHs FOR THE CY 2024 REPORTING PERIOD”.

45. On page 36374:

a. Top third of the page:

(1) First column, partial paragraph, line 13, the reference “section IX.F.2” is corrected to read “sections IX.C.5. and IX.C.7.”.

(2) Second column, second partial paragraph, lines 3 and 4, the reference “sections IX.C.5.c and IX.C.5.d.” is corrected to read “sections IX.C.5.c., IX.C.5.d., and IX.C.7.a.”.

b. Middle of the page, in the notes following the table titled “TABLE IX.F.-07: PREVIOUSLY FINALIZED AND PROPOSED ECQMS FOR ELIGIBLE HOSPITALS AND CAHS FOR THE CY 2026 REPORTING PERIOD”:

(1) First table note, line 2, the reference “IX.C” is corrected to read “IX.C.5.c.”.

(2) Second table note, line 2, the reference “IX.C” is corrected to read “IX.C.5.d.”.

(3) Third table note, line 2, the reference “IX.C” is corrected to read “IX.C.7.a.”.

46. On page 36375, top of the page, in the table titled “TABLE IX.F.-08: PREVIOUSLY FINALIZED AND PROPOSED ECQMS FOR ELIGIBLE HOSPITALS AND CAHS FOR THE CY 2027 REPORTING PERIOD AND SUBSEQUENT YEARS”, the third table note, line 2, the reference “IX.C.5.b.” is corrected to read “IX.C.7.a.”.

47. On page 36376, first column, third full paragraph, line 3, the phrase “eCQM measures to” is corrected to read “eCQMs to”.

48. On page 36378, second column, first partial paragraph, line 7, the phrase “(Ph.D.S) in 2023. The Ph.D.S” is corrected to read “(PHDS) in 2023. The PHDS”.

49. On page 36380, second column, third full paragraph, line 2, the phrase “CMS should consider?” is corrected to read “should CMS consider?”

50. On page 36413, third column, first footnote paragraph (footnote 592), lines 1 and 2, the hyperlink “https://www.cms.gov/icd10m/version38-fullcode-cms/fullcode_cms/P0008.html.” is corrected to read “ICD-10-CM/PCS MS-DRG v41.1 Definitions Manual: https://www.cms.gov/icd10m/FY2024-version41.1-fullcode-cms/fullcode_cms/P0120.html.”

51. On page 36414:

a. First column:

(1) Fourth full paragraph:

(a) Lines 1 and 2, the phrase “Medicare FFS claims” is corrected to read “BPCI Advanced episode”.

(b) Line 7, the phrase “Based on that analysis, we” is corrected to read “Based on that analysis, after applying all BPCI Advanced episode-level exclusion and overlap policies, we”.

(2) First footnote paragraph (footnote 594), lines 1 and 2, the hyperlink “https://www.cms.gov/icd10m/version38-fullcode-cms/fullcode_cms/P0009.html.” is corrected to read “ICD-10-CM/PCS MS-DRG v41.1 Definitions Manual: https://www.cms.gov/icd10m/FY2024-version41.1-fullcode-cms/fullcode_cms/P0159.html.”

b. Second column, first footnote paragraph (footnote 595), lines 1 through 7, the reference “Medical Severity Diagnosis Related Groups (MS-DRGs): Definitions Manual. Version 33.0A. 3M Health Information Systems. (October 1, 2015). https://www.cms.gov/Medicare/Medicare-Fee-for-Service-Payment/AcuteInpatientPPS/FY2016-IPPS-Final-Rule-Home-Page-Items/FY2016-IPPS-Final-Rule-Data-Files.html.” is corrected to read “Medicare Severity Diagnosis Related Groups (MS-DRGs): Definitions Manual. Version 41.1. 3M Health Information Systems. (April 1, 2024). https://www.cms.gov/icd10m/FY2024-version41.1-fullcode-cms/fullcode_cms/P0001.html.”

c. Third column, first footnote paragraph (footnote 596), lines 1 through 3, the reference “ICD-10-CM/PCS MS-DRG v38.0 Definitions Manual: https://www.cms.gov/icd10m/version38-fullcode-cms/fullcode_cms/P0011.html.” is corrected to read “ICD-10-CM/PCS MS-DRG v41.1 Definitions Manual: https://www.cms.gov/icd10m/FY2024-version41.1-fullcode-cms/fullcode_cms/P0011.html.”

52. On page 36415:

a. Second column, first footnote paragraph (footnote 597), lines 1 and 2, the reference, “https://www.cms.gov/icd10m/version38-fullcode-cms/fullcode_cms/P0008.html.” is corrected to read “ICD-10-CM/PCS MS-DRG v41.1 Definitions Manual: https://www.cms.gov/icd10m/FY2024-version41.1-fullcode-cms/fullcode_cms/P0120.html.”

b. Third column, third full paragraph, line 8, the phrase “22633. Based on an analysis of 2021” is corrected to read “22633. We note that section II.C.6.b. of this proposed rule includes proposed changes to several of the spinal fusion MS-DRGs that are included here in the proposed definition for the spinal fusion episode category for TEAM. We also refer the reader to the draft version of the ICD-10 MS-DRG Definitions Manual, Version 42, on the CMS website at https://www.cms.gov/medicare/payment/prospective-payment-systems/acute-inpatient-pps/ms-drg-classifications-and-software to view the changes that we are proposing to the spinal fusion MS-DRGs for FY 2025. If finalized for FY 2025, as proposed in section II.C.6.b. of this proposed rule, rather than including MS-DRGs 453, 454, and 455, in the definition for the spinal fusion episode category, we would include the 8 new MS-DRGs: MS-DRG 426 (Multiple Level Combined Anterior and Posterior Spinal Fusion Except Cervical with MCC), MS-DRG 427 (Multiple Level Combined Anterior and Posterior Spinal Fusion Except Cervical with CC), MS-DRG 428 (Multiple Level Combined Anterior and Posterior Spinal Fusion Except Cervical without CC/MCC), MS-DRG 402 (Single Level Combined Anterior and Posterior Spinal Fusion Except Cervical), MS-DRG 429 (Combined Anterior and Posterior Cervical Spinal Fusion with MCC), MS-DRG 430 (Combined Anterior and Posterior Cervical Spinal Fusion without MCC), MS-DRG 447 (Multiple Level Spinal Fusion Except Cervical with MCC) and MS-DRG 448 (Multiple Level Spinal Fusion Except Cervical without MCC). In addition, as discussed in section II.C.6.b. of this proposed rule, if finalized, we would use the revised titles for existing MS-DRGs 459 and 460, “Single Level Spinal Fusion Except Cervical with MCC and without MCC”, respectively. Based on an analysis of 2021”.

53. On page 36416, middle of the page, in the table titled “TABLE X.A.-04: PROPOSED EPISODE CATEGORIES AND BILLING CODES”:

a. The entry for “Spinal fusion” is corrected to read as follows:

TABLE X.A.-04: PROPOSED EPISODE CATEGORIES AND BILLING CODES
Episode Category | Billing Codes (MS-DRG/HCPCS)
Spinal fusion | MS-DRG 453*, 454*, 455*, 459, 460, 471, 472, 473. HCPCS 22551, 22554, 22612, 22630, 22633.

b. Corrected by adding a table note to read as follows:

“* We note that, if the proposed changes to the spinal fusion MS-DRGs included in section II.C.6.b. of this proposed rule for FY 2025 are finalized, the spinal fusion episode category would not include MS-DRGs 453, 454 or 455, and would instead include the 8 new spinal fusion MS-DRGs: 426, 427, 428, 402, 429, 430, 447, and 448.”.

54. On page 36418, second column, after the 13th bulleted paragraph that begins “• 22633” and before the paragraph that begins “Major small and large bowel procedure MS-DRGs—” is corrected by adding a paragraph to read as follows:

“We note that section II.C.6.b. of this proposed rule includes proposed changes to several of the spinal fusion MS-DRGs that are included here in the proposed definition for the spinal fusion clinical episode category for TEAM. If the proposed changes to the spinal fusion MS-DRGs in section II.C.6.b of this proposed rule for FY 2025 are finalized, rather than using MS-DRGs 453, 454, and 455 in the spinal fusion episode category, we would use the 8 new MS-DRGs: MS-DRG 426 (Multiple Level Combined Anterior and Posterior Spinal Fusion Except Cervical with MCC), MS-DRG 427 (Multiple Level Combined Anterior and Posterior Spinal Fusion Except Cervical with CC), MS-DRG 428 (Multiple Level Combined Anterior and Posterior Spinal Fusion Except Cervical without CC/MCC), MS-DRG 402 (Single Level Combined Anterior and Posterior Spinal Fusion Except Cervical), MS-DRG 429 (Combined Anterior and Posterior Cervical Spinal Fusion with MCC), MS-DRG 430 (Combined Anterior and Posterior Cervical Spinal Fusion without MCC), MS-DRG 447 (Multiple Level Spinal Fusion Except Cervical with MCC) and MS-DRG 448 (Multiple Level Spinal Fusion Except Cervical without MCC). In addition, if finalized as proposed in section II.C.6.b. of this proposed rule, we would use the revised titles for the existing MS-DRGs 459 and 460, “Single Level Spinal Fusion Except Cervical with MCC and without MCC”, respectively.”.

55. On page 36449, first column, second footnote paragraph (footnote 678), lines 2 through 3, the hyperlink “https://www.healthypeople.gov/2020/topics-objectives/topic/social-determinants-of-health.” is corrected to read “https://wayback.archive-it.org/5774/20220413203948/https://www.healthypeople.gov/2020/topics-objectives/topic/social-determinants-of-health.”.

56. On page 36451, third column, first footnote paragraph (footnote 696), lines 4 through 6, the hyperlink “https://www.commwealthfund.org/sites/default/files/2019-07/ROI-EVIDENCE-REVIEW-FINAL-VERSION.pdf.” is corrected to read “https://www.commonwealthfund.org/sites/default/files/2019-07/COMBINED_ROI_EVIDENCE_REVIEW_7.15.19.pdf.”.

B. Corrections of Errors in the Appendices

1. On page 36611, first column, second footnote paragraph (footnote 857), lines 1 through 3, the hyperlink “https://health.gov/healthypeople/priority-areas/social-determinants-health.” is corrected to read “https://wayback.archive-it.org/5774/20220413203948/https://www.healthypeople.gov/2020/topics-objectives/topic/social-determinants-of-health.”.

2. On page 36621, second column, second paragraph, line 1, the reference “Table I.G.8.-01” is corrected to read “Table I.G.7.-01”.

3. On page 36642, second column, second full paragraph, lines 4 and 5, the reference “section XII.B.7.” is corrected to read “section XII.B.8.”.

Elizabeth J. Gramling,
Executive Secretary to the Department, Department of Health and Human Services.

[FR Doc. 2024-12164 Filed 5-31-24; 4:15 pm]

BILLING CODE 4120-01-P